DEPARTMENT OF AGRICULTURE

Forest Service

Black Hills National Forest, Hell Canon Ranger District, Custer, South Dakota—Norbeck Wildlife Project

AGENCY: Forest Service, USDA.

ACTION: Notice of intent to prepare an environmental impact statement.

SUMMARY: This project proposes to implement wildlife habitat improvements on about 6,049 acres within the Norbeck Wildlife Preserve on the Hell Canyon Ranger District of the Black Hills National Forest. In addition, the project proposes to conduct prescribed burning on 7,391 acres of the Black Elk Wilderness. This project will analyze effects of these treatments within the constraints of the Black Hills National Forest Revised Land and Resource Management Plan (BHNF LRMP), as amended.

DATES: Comments concerning the scope of the analysis should be received within 30 days after publication of this notice in the Federal Register. The draft environmental impact statement is expected in March, 2008 and the final environmental impact statement is expected July, 2008.

ADDRESSES: Send writhen comments to Michael Lloyd, District Ranger, Hell Canyon Ranger District, 330 Mt. Rushmore Rod., Custer, South Dakota 57730. Comment may also be submitted by e-mail to: comments-rocky-mountain-black-hills-hell-canyon@fs.fed.us. with “Norbeck” as subject. Electronic comments must be submitted in word (.doc), RichText (.rtf), or Adobe Acrobat (.pdf) format.

FOR FURTHER INFORMATION CONTACT: Alice Allen, Project Coordinator, Blacks Hills National Forest, Hell Canyon Ranger District, at 330 Mt. Rushmore Rd., Custer, South Dakota 57730, phone (605) 673-4853.

SUPPLEMENTARY INFORMATION:

Purpose and Need for Action: The purpose for the proposed action is to benefit “game animals and birds” by improving habitat conditions in the Norbeck Wildlife Preserve. In addition, there is a need to protect these habitats for game animals and birds in Norbeck from a wildfire escaping from the Black Elk Wilderness. The EIS will determine current conditions, analyze environmental consequences of habitat improvements on those conditions, and assist the decision maker in selecting management/monitoring strategies consistent with meeting desired conditions in the BHNF LRMP, including the goals for “Management Areas 5.4A—Norbeck Wildlife Preserve” and “Management Area 1.1A—Black Elk Wilderness”. The Forest Service seeks to provide high quality habitat for “game animals and birds” in accordance with the Norbeck Organic Act of June 5, 1920.

Proposed Action: The Norbeck Wildlife Project proposes to manage vegetation to benefit game animals and birds on about 6,049 acres within the Norbeck Wildlife Preserve. The project also proposes to use prescribed fire on 7,391 acres of the Black Elk Wilderness to help protect these habitats from wildfire escaping from the wilderness. The Forest Service will evaluate, analyze and determine the effects of the proposed treatments on Norbeck focus species (Griebel, Burns and Deisch 2007) including mountain goat, bighorn sheep, elk, white-tailed deer, turkey, bluebird, golden-crowned kinglet, brown creeper, ruffed grouse, song sparrow, northern goshawk and black-backed woodpecker.

Possible Alternatives: The No Action alternative would not authorize habitat improvements of any type on any portion of the project area at this time. Other alternatives may be developed in response to public comments.

Responsible Official: The Responsible Official for this project is Michael D. Lloyd, District Ranger, Hell Canyon Ranger District, Black Hills National Forest, 330 Mt. Rushmore Rd., Custer, South Dakota.

Nature of Decision to be Made: The Forest Service will evaluate the proposed action and alternatives. After reviewing the proposed action, the alternatives, the environmental analysis, and considering public comment, the District Ranger will reach a decision that is in accordance with the purpose and need for this project. The decision will include, but not be limited to:

(1) Whether or not to undertake vegetative treatments to improve habitat conditions for game animals and birds in Norbeck Wildlife Preserve,

(2) Whether or not to undertake prescribed burning in the Black Elk Wilderness to protect these habitats from fire escaping from the wilderness,

(3) If so, what actions are appropriate and under what conditions actions will take place.

Public Comment: This notice of intent initiates the scoping process which guides the development of the environmental impact statement. The District desires to involve interested parties in identifying issues related to habitat management for game animals and birds. Comments will help the planning team identify key issues and opportunities to develop habitat improvements, monitoring strategies, and alternatives.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 24, 2007.
Craig Bobzien,
Forest Supervisor,

[FR Doc. 07-3710 Filed 7-30-07; 8:45 am]

BILLING CODE 3410-11-M